DEPARTMENT OF AGRICULTURE

Forest Service

Sequoia National Forest, California; Summit Fuels Reduction and Forest Health Project

AGENCY: Forest Service, USDA.

ACTION: Notice of intent to prepare an environmental impact statement.

SUMMARY: The Sequoia National Forest (SQF) is planning to prepare an environmental impact statement (EIS) to document and publicly disclose the environmental effects of implementing a fuels reduction and forest health project within a 10,600 acre project analysis area. The Summit Fuels Reduction and Forest Health Project (Summit Project) will encourage a healthy and diverse forest ecosystem that is more resilient to the effects of wildfire, drought, disease, and other disturbances. The Summit Project is located in the wildland-urban intermix (WUI) of the Greenhorn Mountains on the Kern River Ranger District of Sequoia National Forest, surrounding the Alta Sierra community in Kern County, California. The Summit Project is located in Township 25 South, Ranges 31 and 32 East, Mount Diablo Base and Meridian.

DATES: Comments concerning the scope of the analysis must be received by September 16, 2015. The draft environmental impact statement is expected January 2016 and the final environmental impact statement is expected June 2016.

ADDRESSES: Send written comments to Kern River Ranger District, Attention: Summit Comments, P.O. Box 9, Kernville, CA 93238. Comments may also be sent via email to comments-pacificsouthwest-sequoia@fs.fed.us, or via facsimile to (760) 376-3795.

FOR FURTHER INFORMATION CONTACT: Steve Anderson, Kern River Ranger District, P.O. Box 9 (105 Whitney Road), Kernville, CA 93238 at 760-376-3781.

Individuals who use telecommunication devices for the deaf (TDD) may call the Federal Information Rely Service (FIRS) at 1-800-877-8339 between 8 a.m. and 8 p.m. Eastern Time, Monday through Friday.

SUPPLEMENTARY INFORMATION:

Purpose and Need for Action

The purpose of the project is to provide defensible space around the community of Alta Sierra and nearby structures, improve forest health and provide for ecological restoration. There is a need to reduce fuels to protect the private properties of the Alta Sierra community and adjacent forest special uses including the recreation residence tracts of El Monte, Greenhorn Summit, Kern Park, Shirley Meadows, Slick Rock, and Weeping Springs; the Shirley Meadow ski resort; communication facilities at Cooks Peak; and power transmission lines; as well as protecting the forest and wildlife habitat from large-scale, severe wildfire effects. Fuels reduction will provide forest and fuel structure that allows for safe use of managed fire for resource benefit and forest health; and reduce the risks to firefighting personnel and the public. There is a need to restore the forest ecosystem by accelerating development of mature forest conditions including large tree forest structure; by re-introducing a fire regime that can be safely managed; by improving wildlife habitat; shifting tree species composition towards historic fire-and drought-adapted oak and pine dominance while reducing fire- and drought-intolerant fir and cedar; and changing stand structure to restore natural heterogeneity and resilience to disturbance events. Sustained yield of timber and other forest by products remains as part of the multiple-use mission of the Forest Service. However, fuels reduction, ecological restoration and movement toward the desired conditions identified in the Sierra Nevada Forest Plan Amendment are the driving influences that will dictate the end result, with an emphasis on “what is left behind” rather than “what is taken.” Timber harvest may be used as a tool to improve efficiency and reduce overall costs while moving the forest toward the desired conditions.

Proposed Action

The proposed action will create defensible space near communities in the WUI defense zones; establish and maintain a pattern of area treatments that can be effective in modifying wild fire behavior in the WUI threat zones; and result in economically efficient treatments to reduce hazardous fuels.

The Summit Project proposes a combination of prescribed fire, hand or mechanical thinning to reduce ladder fuels and the potential for crown fire while increasing forest resilience. Thinning may include commercial timber harvest within the 2,500 acre proposed treatment areas. It is expected that the timber sale volume would be less than 5,000 CCF. The proposed treatment areas include salvage harvest of hazard trees of any size as well as dead and dying trees; commercial harvest, using ground skidding, skyline or helicopter yarding of trees smaller than 30 inches diameter at breast height (dbh); and hand thinning, mastication, chipping or other fuels treatments. Treatments will vary based on slopes, ground conditions, access and other factors. Prescribed fire would be introduced within the project analysis area to reduce surface fuels and promote natural regeneration. Areas selected for thinning or mastication would favor Jeffrey and sugar pines, oak, and other shade intolerant, fire and drought tolerant species, to restore the historic species composition. Large snags and woody debris would be strategically retained for wildlife habitat. Riparian areas and meadows would be protected. Implementation would begin after completion of the environmental review process, estimated in 2016, and would be completed over a 5-10 year period.

Possible Alternatives

In addition to the proposed action, the EIS will evaluate a no action alternative. An alternative will be developed that applies only non-commercial treatments to achieve the purpose and need. The Draft Interim Recommendations for the Management of California Spotted Owl Habitat on National Forest System Lands 29 May 2015 will be included and analyzed in an alternative as well. Other alternatives may be identified through the interdisciplinary process and public participation.

Responsible Official

The responsible official is Alfred W. Watson, District Ranger, Sequoia National Forest, P.O. Box 9, Kernville, CA 93238.

Nature of Decision To Be Made

The responsible official will decide whether to adopt and implement the proposed action, an alternative to the proposed action, or take no action with respect to the Summit Fuels Reduction and Forest Health Project.

Scoping Process

This Notice of Intent initiates the scoping process which guides the development of the EIS. A public scoping meeting will be held on Saturday, October 3, 2015 starting at 10 a.m. at Greenhorn Mountains County Park on Old State Road in Alta Sierra. Detailed information on the meeting and proposed action, including maps, are available on the forest Web site at: http://www.fs.usda.gov/project/?project=45951. This project is included in the Sequoia National Forest's quarterly schedule of proposed actions (SOPA).

This project will follow the objection procedures as directed by 36 CFR 218 (A) and (B). The objection process provides an opportunity for members of the public who have commented during opportunities for public participation to have any unresolved concerns receive an independent review by the Forest Service prior to a final decision being made by the responsible official. Only those who provided specific written comments during opportunities for public comment are eligible to file an objection.

It is important that reviewers provide their comments at such times and in such manner that they are useful to the agency's preparation of the environmental impact statement. Therefore, comments should be provided prior to the close of the comment period and should clearly articulate the reviewer's concerns and contentions.

Comments received in response to this solicitation, including the names and addresses of those who comment, will be part of the public record on this proposed action. Comments submitted anonymously will be accepted and considered, however anonymous comments will not provide the Agency with the ability to provide the respondent with subsequent environmental documents.

Dated: September 9, 2015.
Alfred W. Watson,
District Ranger.

[FR Doc. 2015-23236 Filed 9-15-15; 8:45 am]

BILLING CODE 3410-11-P